ENVIRONMENTAL PROTECTION AGENCY

[FRL OP-OFA-053]

Environmental Impact Statements; Notice of Availability

Responsible Agency: Office of Federal Activities, General Information 202-564-5632 or https://www.epa.gov/nepa.

Weekly receipt of Environmental Impact Statements (EIS)

Filed January 9, 2023 10 a.m. EST Through January 13, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230005, Draft, BLM, ND, North Dakota Resource Management Plan Revision, Comment Period Ends: 04/20/2023, Contact: Kristine Braun 701-227-7725.

EIS No. 20230006, Draft, BLM, ID, Lava Ridge Wind Project, Comment Period Ends: 03/21/2023, Contact: Kasey Prestwich 208-732-7204.

EIS No. 20230007, Draft, TxDOT, TX, US 380 McKinney, Comment Period Ends: 03/21/2023, Contact: Doug Booher 512-416-2663.

EIS No. 20230008, Final, FERC, IL, Three Rivers Interconnection Project, Review Period Ends: 02/21/2023, Contact: Office of External Affairs 866-208-3372.

Amended Notice

EIS No. 20220183, Draft, USACE, CA, Delta Conveyance Project, Comment Period Ends: 03/16/2023, Contact: Zachary Simmons 415-503-2951. Revision to FR Notice Published 12/16/2022; Extending the Comment Period from 02/14/2023 to 03/16/2023.

Dated: January 13, 2023.
Cindy S. Barger,
Director, NEPA Compliance Division, Office of Federal Activities.

[FR Doc. 2023-01066 Filed 1-19-23; 8:45 am]

BILLING CODE 6560-50-P